NATIONAL CREDIT UNION ADMINISTRATION

Sunshine Act Meetings

Time and Date: 10:00 am, Thursday, March 8, 2001.

Place: Board Room, 7th Floor, Room 7047, 1775 Duke Street, Alexandria, VA 22314-3428.

Status: Open.

Matters to be Considered: 1. Request from a Federal Credit Union to Convert to a Community Charter.

2. Part 702—Prompt Corrective Action Risk Mitigation Credit Guidelines.

3. Notice of Proposed Rulemaking: Part 742 and Amendment to Part 722, NCUA'S Rules and Regulations, Regulatory Flexibility Program.

4. Amendments to the Field of Membership and Chartering Manual Regarding Requirements for Community Charters.

5. National Credit Union Share Insurance Fund (NCUSIF) Dividend and Insurance Premium.

Recess: 11:15 am

Time and Date: 11:30 am, Thursday, March 8, 2001.

Place: Board Room, 7th Floor, Room 7047, 1775 Duke Street, Alexandria, VA 22314-3428.

Status: Closed.

Matter to be Considered: 1. Three (3) Personnel Matters. Closed pursuant to exemptions (2) and (6).

For Further Information Contact: Becky Baker, Secretary of the Board, Telephone 703-518-6304.

Becky Baker,
Secretary of the Board.

[FR Doc. 01-5471 Filed 3-1-01; 4:11 pm]

BILLING CODE 7535-01-M